DEPARTMENT OF TRANSPORTATION

Federal Highway Administration

Environmental Impact Statement: San Bernardino County, CA

AGENCY: Federal Highway Administration (FHWA), DOT.

ACTION: Notice of intent.

SUMMARY: The FHWA is republishing this notice to advise the public that an Environmental Impact Statement (EIS) is being prepared for the proposed highway project along State Route 18 in San Bernardino County, California. It is being republished due to the length of time since the original Notice of Intent (NOI) was published, which was August 30, 1990 (Federal Register, vol. 55, no. 169) and project changes.

FOR FURTHER INFORMATION CONTACT: Mr. César E. Pérez, Team Leader—South Region, Federal Highway Administration, 650 Capitol Mall, Suite 4-100, Sacramento, California 95814, Telephone: (916) 498-5065.

SUPPLEMENTARY INFORMATION: The FHWA, in cooperation with the California Department of Transportation, is preparing an EIS for the proposed Big Bear Lake Dam Bridge Replacement Project on State Route 18 in San Bernardino County, California. The proposed project will facilitate completion of the Big Bear Dam spillway project, move vehicular traffic off the dam structure, and improve the geometrics of the approach roadways. Existing State Route 18, within the project limits (kilo-post miles 71.1/71.9 [post miles 44.2/44.7]) has curves where the posted speed limit is less than 25 miles per hour. These curves will be realigned and the overall roadway brought up to current design standards within the project limits. This includes a wider bridge with three lanes to accommodate existing and future travel demands within the Big Bear Lake area, as well as 10-foot shoulders to accommodate nonmotorized travel and better facilitate winter snow removal. The original NOI proposed four lanes.

The U.S. Forest Service is a cooperating agency. Consultation with the U.S. Forest Services has been, and will continue to be, undertaken to minimize impacts to the surrounding San Bernardino National Forest associated with the construction of the proposed project.

Alternatives currently under consideration are the result of the 1990 public and agency scoping meetings, as well as comments received from multiple public information meetings/open houses held in the Big Bear area. These alternatives include: Alternative 1—No Action; Alternative 4—construct new bridge upstream of the existing bridge crossing over Big Bear Lake; and alternative 5—construct new bridge crossing over Bear Creek Canyon downstream of the existing bridge. Alternatives 2 and 3 were eliminated after initial scoping due to a higher level of anticipated impacts to properties eligible for listing on the National Register of Historic Places and a larger impact area and subsequent adverse impacts to biological and visual resources. In addition, Alternative 2 would have replaced the roadway on the existing bridge. Seismic concerns and conflicts with operation of the dam also supported the decision to eliminate replacing the roadway on the existing bridge as was identified as an alternative in the 1990 NOI.

Letters describing the proposed action and soliciting comments were previously sent to appropriate Federal, State, and local agencies, and to private organizations and citizens who have expressed, or are known to have, an interest in this proposal. A formal agency scoping meeting was held June 5, 1990, in the City of Big Bear Lake, California. A public scoping meeting was held July 9, 1990, also in the City of Big Bear Lake, California. At the request of the Big Bear Kiwanis and Big Bear Lions Clubs, the proposed project was presented to the clubs in the City of Big Bear Lake, California, on May 15, 1990, and August 16, 1990, respectively. On August 8, 1997, in the City of Big Bear Lake, California, a public participation meeting was held in accordance with the Advisory Council on Historic Preservation Regulations regarding section 106 of the National Historic Preservation Act to discuss/comment on the draft Finding of Effect. Public information meetings/open houses were held in the City of Big Bear Lake, California, on September 30, 1997, and May 3, 2001, to keep the public up to date and continue with the public information program. Finally, public agency coordination and update meetings were also held on May 2, 2002, and August 20, 2003. The public information program will continue throughout the environmental process.

To ensure that the full range of issues related to this proposed action are addressed, and all significant issues are identified, comments and suggestions are invited from all interested parties. Comments or questions concerning this proposed action and the EIS should be directed to the FHWA at the address previously provided in this notice. The Draft EIS will be available for public and agency review and comment prior to the public hearing for the proposed action. It is anticipated that the Draft EIS will be available for review in early 2005.

(Catalog of Federal Domestic Assistance Program Number 20.205, Highway Planning and Construction. The regulation implementing Executive Order 12372 regarding intergovernmental consultation on Federal programs and activities apply to this program)

Issued on: November 5, 2004.
Mr. John E. Dewar,
Acting Chief Operating Officer, Sacramento, California.

[FR Doc. 04-25194 Filed 11-10-04; 8:45 am]

BILLING CODE 4910-22-M